DEPARTMENT OF THE INTERIOR

Bureau of Land Management

[NM-930-1430-ET; NMNM 20]

Public Land Order No. 7550; Revocation of Public Land Order No. 4146; New Mexico

AGENCY: Bureau of Land Management, Interior.

ACTION: Public land order.

SUMMARY: This order revokes a public land order in its entirety as to 190.36 acres withdrawn to protect the Mexican Duck Habitat Development Project. The withdrawal is no longer needed. The lands will be opened to surface entry and mining.

EFFECTIVE DATE: February 12, 2003.

FOR FURTHER INFORMATION CONTACT: Jeanette Espinosa, BLM New Mexico State Office, 1474 Rodeo Road, Santa Fe, New Mexico 87502, 505-438-7597.

SUPPLEMENTARY INFORMATION: The Mexican Duck has been removed from the threatened and endangered species lists for both the State of New Mexico and the Federal Government. Therefore, the withdrawal is no longer needed.

Order

By virtue of the authority vested in the Secretary of the Interior by Section 204 of the Federal Land Policy and Management Act of 1976, 43 U.S.C. 1714 (1994), it is ordered as follows:

1. Public Land Order No. 4146, which withdrew 190.36 acres to protect the Mexican Duck Habitat Development Project, is hereby revoked in its entirety as it affects the following described lands:

New Mexico Principal Meridian

T. 25 S., R. 21 W.,

Sec. 31, lots 3 and 4.

T. 26 S., R. 22 W.,

Sec. 1, lots 8 and 9, SW¼NE¼, NW¼SE¼.

The area described contains 190.36 acres, in Hidalgo County.

2. At 10 a.m. on February 12, 2003, the lands will be opened to the operation of the public land laws generally, subject to valid existing rights, the provisions of existing withdrawals, other segregations of record, and the requirements of applicable law. All valid applications received at or prior to 10 a.m. on February 12, 2003, shall be considered as simultaneously filed at that time. Those received thereafter shall be considered in the order of filing.

3. At 10 a.m. on February 12, 2003, the lands will be opened to location and entry under the United States mining laws, subject to valid existing rights, the provisions of existing withdrawals, other segregations of record, and the requirements of applicable law. Appropriation of any of the lands included in this order under the general mining laws prior to the date and time of restoration is unauthorized. Any such attempted appropriation, including attempted adverse possession under 30 U.S.C. 38 (1994), shall vest no rights against the United States. Acts required to establish a location and to initiate a right of possession are governed by State law where not in conflict with Federal law. The Bureau of Land Management will not intervene in disputes between rival locators over possessory rights since Congress has provided for such determination in local courts.

Dated: December 23, 2002.
Rebecca W. Watson,
Assistant Secretary—Land and Minerals Management.

[FR Doc. 03-598 Filed 1-10-03; 8:45 am]

BILLING CODE 4310-FB-P